DEPARTMENT OF HOMELAND SECURITY

Federal Emergency Management Agency

[Docket ID FEMA-2018-0002; Internal Agency Docket No. FEMA-B-1471]

Final Flood Hazard Determinations

AGENCY: Federal Emergency Management Agency; DHS.

ACTION: Notice; correction.

SUMMARY: On May 14, 2018, FEMA published in the Federal Register a final flood hazard determination notice that contained an erroneous table. This notice provides corrections to that table, to be used in lieu of the information published at 83 FR 22278-22279. The table provided here represents the final flood hazard determinations and communities affected for Atlantic County, New Jersey (All Jurisdictions).

DATES: The date of August 28, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Correction

In the final flood hazard determination notice published at 83 FR 22278-22279 in the May 14, 2018, issue of the Federal Register, FEMA published a table titled “Atlantic County, New Jersey (All Jurisdictions)”. This table contained inaccurate information as to the community map repository for the Town of Hammonton featured in the table.

In this document, FEMA is publishing a table containing the accurate information. The information provided below should be used in lieu of that previously published.

(Catalog of Federal Domestic Assistance No. 97.022, “Flood Insurance.”)

David I. Maurstad,
Deputy Associate Administrator for Insurance and Mitigation, Department of Homeland Security, Federal Emergency Management Agency.

Community | Community map repository address
Atlantic County, New Jersey (All Jurisdictions)
Docket No.: FEMA-B-1471
Borough of Buena | Buena Borough Construction and Permits Office, 616 Central Avenue, Minotola, NJ 08341.
Borough of Folsom | Borough Hall, 1700 12th Street, Folsom, NJ 08037.
Borough of Longport | Borough Hall, 2305 Atlantic Avenue, Longport, NJ 08403.
City of Absecon | City Hall, 500 Mill Road, Absecon, NJ 08201.
City of Brigantine | City Hall, 1417 West Brigantine Avenue, Brigantine, NJ 08203.
City of Linwood | Construction Office, 400 Poplar Avenue, Linwood, NJ 08221.
City of Margate City | Construction Office, 9001 Winchester Avenue, Margate City, NJ 08402.
Town of Hammonton | Engineer's Office, 215 Bellevue Avenue, Hammonton, NJ 08037.
Township of Buena Vista | Buena Vista Township Hall, 890 Harding Highway, Buena, NJ 08310.
Township of Egg Harbor | Municipal Building, 3515 Bargaintown Road, Egg Harbor Township, NJ 08234.
Township of Hamilton | Hamilton Township Zoning Office, 6101 Thirteenth Street, Mays Landing, NJ 08330.
Township of Mullica | Mullica Township Hall, 4528 White Horse Pike, Elwood, NJ 08217.
Township of Weymouth | Weymouth Township Municipal Building, 45 South Jersey Avenue, Dorothy, NJ 08317.

[FR Doc. 2018-23345 Filed 10-24-18; 8:45 am]

BILLING CODE 9110-12-P